DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Administrator of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing provided such request is filed in writing with the Administrator, Office of Trade Adjustment Assistance, at the address shown below, no later than February 8, 2021.

Interested persons are invited to submit written comments regarding the subject matter of the investigations to the Administrator, Office of Trade Adjustment Assistance, at the address shown below, not later than February 8, 2021.

The petitions filed in this case are available for inspection at the Office of the Administrator, Office of Trade Adjustment Assistance, Employment and Training Administration, U.S. Department of Labor, Room N-5428, 200 Constitution Avenue NW, Washington, DC 20210.

Signed at Washington, DC this 11th day of January 2021.
Hope D. Kinglock,
Certifying Officer, Office of Trade Adjustment Assistance.

Appendix

30 TAA Petitions Instituted Between 12/1/20 and 12/31/20
TA-W | Subject firm (petitioners) | Location | Date of institution | Date of petition
96630 | ASCO Power Technologies (Company Official) | Independence, OH | 01-Dec-2020 | 30-Nov-2020.
96631 | Aisin World Corp of America (State Official) | Northville, MI | 01-Dec-2020 | 30-Nov-2020.
96632 | JTEKT North America Corporation (State Official) | Ennis, TX | 03-Dec-2020 | 02-Dec-2020.
96633 | TE Connectivity (Company Official) | Oceanside, CA | 03-Dec-2020 | 02-Dec-2020.
96634 | Novares US Engine Components, Inc. (Company Official) | Richland Center, WI | 04-Dec-2020 | 03-Dec-2020.
96635 | Mid-Continent Instrument Co., Inc. (State Official) | Wichita, KS | 04-Dec-2020 | 03-Dec-2020.
96636 | Nokia of America Corporation (State Official) | Dublin, OH | 04-Dec-2020 | 03-Dec-2020.
96637 | Ferro Corporation (Company Official) | Washington, PA | 04-Dec-2020 | 03-Dec-2020.
96638 | UNFI (State Official) | Providence, RI | 04-Dec-2020 | 04-Dec-2020.
96639 | Pratt and Whitney (State Official) | Wichita, KS | 04-Dec-2020 | 04-Dec-2020.
96640 | Acuity Brands Lighting (State Official) | Crawfordsville, IN | 07-Dec-2020 | 04-Dec-2020.
96641 | Hewlett Packard Enterprise Pointnext Division (State Official) | Colorado Springs, CO | 08-Dec-2020 | 07-Dec-2020.
96642 | Super Vista North America (State Official) | Irvine, CA | 10-Dec-2020 | 10-Dec-2020.
96643 | DUS Operating Inc. dba Dura Automotive Systems (State Official) | Moberly, MO | 14-Dec-2020 | 11-Dec-2020.
96644 | Collins Aerospace (State Official) | Decorah, IA | 15-Dec-2020 | 14-Dec-2020.
96645 | American Woodmark (State Official) | Moorefield, WV | 16-Dec-2020 | 09-Dec-2020.
96646 | Campbell Hausfeld (Worker) | Leitchfield, KY | 16-Dec-2020 | 30-Oct-2020.
96647 | Octapharma Plasma (State Official) | Newport News, VA | 16-Dec-2020 | 16-Dec-2020.
96648 | Manitou Equipment America, LLC (State Official) | Waco, TX | 18-Dec-2020 | 17-Dec-2020.
96649 | Spectrum Brands (Locally known as Tetra) (State Official) | Blacksburg, VA | 21-Dec-2020 | 17-Dec-2020.
96650 | Pacific Cast Technologies a CPP Company (State Official) | Albany, OR | 23-Dec-2020 | 22-Dec-2020.
96651 | DeCare Dental, LLC. a subsidiary of Anthem Companies, Inc. (State Official) | Oceanside, MN | 23-Dec-2020 | 22-Dec-2020.
96652 | Nidec Sankyo America Corporation (Company Official) | Shelbyville, IN | 23-Dec-2020 | 22-Dec-2020.
96653 | HCL Technologies LTD (State Official) | Boise, ID | 28-Dec-2020 | 24-Dec-2020.
96654 | Ralph Lauren (State Official) | New York, NY | 28-Dec-2020 | 24-Dec-2020.
96655 | United States Steel Corporation (State Official) | Ecorse, MI | 28-Dec-2020 | 23-Dec-2020.
96656 | Beckman Coulter, Inc. (State Official) | Grants Pass, OR | 29-Dec-2020 | 28-Dec-2020.
96657 | Hampden Paper/LL Flex (State Official) | Holyoke, MA | 29-Dec-2020 | 29-Dec-2020.
96658 | Hub City (Regal Beloit) (State Official) | Aberdeen, SD | 29-Dec-2020 | 28-Dec-2020.
96659 | Halliburton Energy Services, Inc. (Worker) | Duncan, OK | 31-Dec-2020 | 30-Dec-2020.

[FR Doc. 2021-01934 Filed 1-28-21; 8:45 am]

BILLING CODE P